DEPARTMENT OF HOMELAND SECURITY

Federal Emergency Management Agency

[Docket ID FEMA-2020-0002; Internal Agency Docket No. FEMA-B-2014

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 11, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2014, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Dickinson County, Iowa and Incorporated Areas
Project: 16-07-2213S Preliminary Date: June 26, 2019
City of Arnolds Park | City Hall, 156 North Highway 71, Arnolds Park, IA 51331.
City of Lake Park | City Hall, 217 North Market Street, Lake Park, IA 51347.
City of Milford | City Hall, 806 North Avenue, Suite 1, Milford, IA 51351.
City of Okoboji | City Hall, 1322 Highway 71 North, Okoboji, IA 51355.
City of Orleans | Dickinson County Courthouse, 1802 Hill Avenue, Suite 2101, Spirit Lake, IA 51360.
City of Spirit Lake | City Hall, 1803 Hill Avenue, Spirit Lake, IA 51360.
City of Wahpeton | Wahpeton City Hall, 1201 Dakota Drive, Milford, IA 51351.
City of West Okoboji | West Okoboji City Hall, 501 Terrace Park Boulevard, Milford, IA 51351.
Unincorporated Areas of Dickinson County | Dickinson County Courthouse, 1802 Hill Avenue, Suite 2101, Spirit Lake, IA 51360.
Ellsworth County, Kansas and Incorporated Areas
Project: 17-07-0009S Preliminary Date: August 14, 2019
City of Holyrood | City Hall, 110 South Main Street, Holyrood, KS 67450.
City of Lorraine | City Hall, 334 North Main Street, Lorraine, KS 67459.
Unincorporated Areas of Ellsworth County | Ellsworth County Courthouse, 210 North Kansas Avenue, Ellsworth, KS 67439.
Rice County, Kansas and Incorporated Areas
Project: 12-07-0333S Preliminary Date: September 12, 2019
City of Bushton | City Hall, 217 South Main Street, Bushton, KS 67427.
City of Chase | City Hall, 507 Main Street, Chase, KS 67524.
City of Frederick | Rice County Planning and Zoning, 460 North Logan Avenue, Lyons, KS 67554.
City of Geneseo | City Hall, 802 Silver Avenue, Geneseo, KS 67444.
City of Little River | City Hall, 125 Main Street, Little River, KS 67457.
City of Lyons | City Hall, 217 East Avenue South, Lyons, KS 67554.
City of Raymond | City Hall, 105 West 4th Street, Raymond, KS 67573.
City of Sterling | City Hall, 114 North Broadway, Sterling, KS 67579.
Unincorporated Areas of Rice County | Rice County Planning and Zoning, 460 North Logan Avenue, Lyons, KS 67554.

[FR Doc. 2020-05150 Filed 3-12-20; 8:45 am]

BILLING CODE 9110-12-P